DEPARTMENT OF TRANSPORTATION

Office of the Secretary

Aviation Proceedings, Agreements Filed During the Week Ending September 8, 2000

The following Agreements were filed with the Department of Transportation under the provisions of 49 U.S.C. Sections 412 and 414. Answers may be filed within 21 days after the filing of the application.

Docket Number: OST-2000-7898.

Date Filed: September 5, 2000.

Parties: Members of the International Air Transport Association.

Subject:

PTC COMP 0676 dated 5 September 2000

Composite Resolutions

Minutes—PTC COMP 0673 and PTC COMP 0674

dated 1 September 2000

Intended effective date: 1 April 2001.

Docket Number: OST-2000-7900.

Date Filed: September 6, 2000.

Parties: Members of the International Air Transport Association.

Subject:

PTC1 0157 dated 1 September 2000

Mail Vote 083—Resolutions 001aa, 041c

TC1 Special Passenger Amending Resolutions

Intended effective date: 1 October 2000.

Docket Number: OST-2000-7911.

Date Filed: September 8, 2000.

Parties: Members of the International Air Transport Association.

Subject:

PTC COMP 0677 dated 5 September 2000

Composite Resolutions 017h, 017i

Intended effective date: 1 April 2001.

Dorothy Y. Beard,
Federal Register Liaison.

[FR Doc. 00-24055 Filed 9-18-00; 8:45 am]

BILLING CODE 4910-62-P